DEPARTMENT OF AGRICULTURE

Forest Service

Southern Arizona Resource Advisory Committee

AGENCY: Forest Service, USDA.

ACTION: Notice of meeting.

SUMMARY: The Southern Arizona Resource Advisory Committee will meet in Tucson, Arizona. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is for the committee to review, discuss, and recommend to the Designated Federal Official the grant proposals to be funded.

DATES: The meeting will be held August 30, 2011, 9:30 a.m.

ADDRESSES: The meeting will be held at the Tucson Interagency Fire Center, 2646 E. Commerce Center Place, Tucson, Arizona 85706. Written comments may be submitted as described under Supplementary Information. All comments, including names and addresses when provided, are placed in the record and are available for public inspection and copying. The public may inspect comments received at the Coronado National Forest Supervisor's Office, 300 West Congress Street, Tucson, AZ, 85701. Please call ahead to 520-388-8458 to facilitate entry into the building to view comments.

FOR FURTHER INFORMATION CONTACT: Sarah Davis, Coronado National Forest Supervisor's Office, 520-388-8458, sldavis@fs.fed.us, or Jennifer Ruyle, RAC Coordinator, same location, 520-388-8351, jruyle@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION CONTACT.

SUPPLEMENTARY INFORMATION: The following business will be conducted: review, discussion, and recommendation to the Designated Federal Official of the grant proposals to be funded. Anyone who would like to bring related matters to the attention of the committee may file written statements with the committee staff before or after the meeting. The agenda will include time for people to make oral statements of three minutes or less. Individuals wishing to make an oral statement should request in writing by August 19, 2011 to be scheduled on the agenda. Written comments and requests for time for oral comments must be sent to Sarah Davis, Coronado National Forest, 300 W. Congress Street, Tucson, AZ 85701, or by e-mail to sldavis@fs.fed.us, or via facsimile to 520-388-8332. A summary of the meeting will be posted at https://fsplaces.fs.fed.us/fsfiles/unit/wo/secure_rural_schools.nsf/RAC/Southern+Arizona?OpenDocument within 21 days of the meeting.

Dated: July 29, 2011.
Reta Laford,
Deputy Forest Supervisor.

[FR Doc. 2011-19831 Filed 8-4-11; 8:45 am]

BILLING CODE 3410-11-P